DEPARTMENT OF TRANSPORTATION

Federal Aviation Administration

14 CFR Part 71

[Docket No. FAA-2015-7487; Airspace Docket No. 15-ACE-7]

Amendment of Class D and E Airspace and Revocation of Class E Airspace; Sioux City, IA

AGENCY: Federal Aviation Administration (FAA), DOT.

ACTION: Final rule.

SUMMARY: This action modifies the Class D and E airspace areas at Sioux Gateway/Col. Bud Day Field, Sioux City, IA, due to the decommissioning of the Gateway non-directional radio beacon (NDB) and cancellation of the NDB approaches at the airport. The Class E airspace area designated as an extension is being removed as it is no longer needed. Advances in Global Positioning System (GPS) capabilities have made this action necessary for the safety and management of Instrument Flight Rules (IFR) operations at the airport. This action also updates the geographic coordinates for Martin Field, NE., to coincide with the FAAs aeronautical database.

DATES: Effective 0901 UTC, January 5, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and E airspace at Sioux Gateway/Col. Bud Day Field, Sioux City, IA.

History

On April 13, 2016, the FAA published in the Federal Register a notice of proposed rulemaking (NPRM) to modify Class D airspace, Class E surface area airspace and Class E airspace extending upward from 700 feet above the surface at Sioux Gateway/Col. Bud Day Field, Sioux City, IA (81 FR 21772) FAA-2015-7487. The Class E airspace area designated as an extension also would be removed as the extension is no longer needed. Interested parties were invited to participate in this rulemaking effort by submitting written comments on the proposal to the FAA. One comment was received from Thomas Glennon, Aeronautical Information Services, citing a correction to the geographic coordinates for Martin Field, South Sioux City, NE., which has been incorporated into this final rule.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies Class E surface area airspace and Class E airspace extending upward from 700 feet above the surface at Sioux Gateway/Col. Bud Day Field, Sioux City, IA. The Class E airspace area designated as an extension also would be removed as the extension is no longer needed. After review, the FAA found that due to the decommissioning of the Gateway NDB, cancellation of the NDB approaches at the airport, advances in GPS capabilities, and implementation of RNAV procedures at Sioux Gateway/Col. Bud Day Field, the Class E airspace designated as a surface area no longer requires extensions and is reduced to within a 4.3-mile radius of the airport; the Class E airspace designated as an extension to the Class D or Class E surface area is removed; and the Class E airspace area extending upward from 700 feet above the surface at the airport is reduced from a 7-mile radius to a 6.8-mile radius, with the northwest extension increased from 3 miles to 3.9 miles each side of the Sioux City VORTAC 319° radial extending from the 6.8-mile radius to 14.4 miles vice 25.3 miles; the northwest extension remains unchanged 4 miles each side of the 001° bearing from the airport from the 6.8-mile radius to 12 miles. The extensions to the southeast and northwest on the Sioux City VORTAC 316° radial are no longer required. All modifications to the Class E airspace are in accordance with airspace requirements specified in FAA Joint Order 7400.2K. This action is necessary for the safety and management of IFR operations under standard instrument approach procedures at the airport. The geographic coordinates for Martin Field, South Sioux City, NE., are amended for the existing Class D and E airspace areas.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6005 Class E Airspace Areas Extending Upward From 700 Feet or More Above the Surface of the Earth.

Paragraph 5000 Class D Airspace.

* * * * *

ACE IA D Sioux City, IA [Amended]

Sioux City, Sioux Gateway/Col. Bud Day Field, IA

(Lat. 42°24′09″ N., long. 96°23′04″ W.)

South Sioux City, Martin Field, NE

(Lat. 42°27′15″ N., long. 96°28′21″ W.)

That airspace extending upward from the surface to and including 3,600 feet MSL within a 4.3-mile radius of Sioux Gateway/Col. Bud Day Field, excluding that airspace within a 1-mile radius of South Sioux City, Martin Field. This Class D airspace area is effective during the specific dates and times established in advance by a Notice to Airmen. The effective date and time will thereafter be continuously published in the Airport/Facility Directory.

Paragraph 6002 Class E Airspace Designated as Surface Areas.

* * * * *

ACE IA E2 Sioux City, IA [Amended]

Sioux City, Sioux Gateway/Col. Bud Day Field, IA

(Lat. 42°24′09″ N., long. 96°23′04″ W.)

South Sioux City, Martin Field, NE

(Lat. 42°27′15″ N., long. 96°28′21″ W.)

Within a 4.3-mile radius of Sioux Gateway/Col. Bud Day Field, excluding that airspace within a 1-mile radius of the South Sioux City, Martin Field. This Class E airspace area is effective during the specific dates and times established in advance by a Notice to Airmen. The effective date and time will thereafter be continuously published in the Airport/Facility Directory.

Paragraph 6004 Class E Airspace Areas Designated as an Extension to a Class D or Class E Surface Area.

* * * * *

ACE IA E4 Sioux City, IA [Removed]

Paragraph 6005 Class E Airspace Areas Extending Upward From 700 Feet or More Above the Surface of the Earth.

* * * * *

ACE IA E5 Sioux City, IA [Amended]

Sioux City, Sioux Gateway Airport/Col. Bud Day Field, IA

(Lat. 42°24′09″ N., long. 96°23′04″ W.)

Sioux City VORTAC

(Lat. 42°20′40″ N., long. 96°19′25″ W.)

That airspace extending upward from 700 feet above the surface within a 6.8-mile radius of Sioux Gateway Airport/Col. Bud Day Field, and within 3.9 miles each side of the 319° radial of the Sioux City VORTAC extending from the 6.8-mile radius to 14.4 miles northwest of the VORTAC, and within 4 miles each side of the 001° bearing from Sioux Gateway Airport/Col. Bud Day Field extending from the 6.8-mile radius of the airport to 12 miles northwest of the airport.

Issued in Fort Worth, Texas, on September 9, 2016.
Walter Tweedy,
Acting Manager, Operations Support Group, ATO Central Service Center.

[FR Doc. 2016-22738 Filed 9-21-16; 8:45 am]

BILLING CODE 4910-13-P